SECURITIES AND EXCHANGE COMMISSION

[Release No. 34-63072A; File No. SR-NYSEAmex-2010-97]

Self-Regulatory Organizations; Notice of Filing and Immediate Effectiveness of Proposed Rule Change by NYSE Amex LLC Amending the Exchange Price List; Correction

October 8, 2010.

AGENCY: Securities and Exchange Commission.

ACTION: Notice; correction.

SUMMARY: The Securities and Exchange Commission published a document in the Federal Register of October 19, 2010 concerning a Notice of Filing and Immediate Effectiveness of Proposed Rule Change by NYSE Amex LLC Amending the Exchange Price List. The document was dated incorrectly.

FOR FURTHER INFORMATION CONTACT: Yue Ding, Division of Trading and Markets, Securities and Exchange Commission, 100 F Street, NE., Washington, DC 20549, (202) 551-5842.

Correction

In the Federal Register of October 19, 2010, in FR Doc. 2010-26109, on page 64368, in the 23rd line of the second column, the date is corrected to read as noted above.

Florence E. Harmon,
Deputy Secretary.

[FR Doc. 2010-28864 Filed 11-16-10; 8:45 am]

BILLING CODE 8011-01-P